DEPARTMENT OF ENERGY

Federal Energy Regulatory Commission

[Docket No. AD06-6-000]

Notice of Joint Meeting of the Federal Energy Regulatory Commission and the Nuclear Regulatory Commission

The Federal Energy Regulatory Commission (FERC) and the Nuclear Regulatory Commission (NRC) will hold a joint open meeting on Thursday, January 25, 2024, beginning at 10:00 a.m. Eastern Standard Time. The meeting will be held in-person at the Commission's headquarters, 888 First Street NE, Washington, DC 20426 in the Commission Meeting Room. Commissioners from both agencies are expected to participate.

The format for the joint meeting will consist of discussions between the two sets of Commissioners following presentations by their respective staffs. In addition, a representative of the North American Electric Reliability Corporation (NERC) will attend and participate in this meeting.

The meeting will be open for the public to attend. Pre-registration is not required and there is no fee for attendance. Information on this meeting will also be posted on the Calendar of Events on the Commission's website, www.ferc.gov, prior to the event. The meeting will also be transcribed. Transcripts will be available for a fee from Ace Reporting, (202) 347-3700.

Commission meetings are accessible under section 508 of the Rehabilitation Act of 1973. For accessibility accommodations, please send an email to accessibility@ferc.gov, call toll-free (866) 208-3372 (voice) or (202) 208-8659 (TTY), or send a fax to (202) 208-2106 with the required accommodations.

All interested persons are invited to the meeting. Questions about the meeting should be directed to Lodie White at Lodie.White@ferc.gov or by phone at (202) 502-8453.

Dated: January 10, 2024.
Debbie-Anne A. Reese,
Acting Secretary.

Agenda

Title: Joint Meeting of the (FERC) and the Nuclear Regulatory Commission (NRC), (Public Meeting).

Scheduled: January 25, 2024.

Location: 888 First Street NE, Washington, DC 20426.

Participants:

FERC Chairman and Commissioners:

Chairman Willie L. Phillips

Commissioner Allison Clements

Commissioner Mark C. Christie

NRC Chairman and Commissioners:

Chairman Christopher T. Hanson

Commissioner David A. Wright

Commissioner Annie Caputo

Commissioner Bradley R. Crowell

FERC Directors and Staff

• David Ortiz, Director of the Office of Electric Reliability (OER)

• Joseph McClelland, Director, Office of Energy Infrastructure Security (OEIS)

• Barry Kuehnle, Energy Infrastructure and Cyber Security Advisor, Division of Cyber Security, OER

• David Huff, Electrical Engineer, Division of Operations and Planning Standards, OER

• Heather Polzin, Reliability Enforcement Counsel & Attorney Advisor, Office of Enforcement

North American Electric Reliability Corporation (NERC) Staff

• Mark Lauby, Senior Vice President and Chief Engineer, NERC

NRC Staff

• Andrea Kock, Deputy Office Director for Engineering, Office of Nuclear Reactor Regulation (NRR)

• Jason Paige, Chief, Long Term Operations and Modernization Branch, Division of Engineering and External Hazards, NRR

• John Wise, Senior Technical Advisor for License Renewal Aging Management, Division of New and Renewed Licenses, NRR

• Peyton Doub, Acting Chief, Environmental Project Management Branch, Division of Rulemaking, Environmental, and Financial Support, Office of Nuclear Material Safety and Safeguards (NMSS)

• Brian Yip, Chief, Cyber Security Branch, Division of Physical and Cyber Security Policy, Office of Nuclear Security and Incident Response (NSIR)

Agenda

10:00 a.m. Introductions and Opening Statements 15 mins.

10:15 a.m. Grid Reliability, Nuclear Power Plants & Other Topics

NERC

Mark Lauby, Senior Vice President and Chief Engineer, NERC 20 mins.

○ Long Term Reliability Assessment

Q&A 15 mins.

FERC 20 mins.

David Ortiz, Director of the Office of Electric Reliability

○ Grid reliability overview and updates

David Huff, Electrical Engineer, Office of Electric Reliability

Heather Polzin, Reliability Enforcement Counsel & Attorney Advisor, Office of Enforcement

○ Status of standards and implementation for cold weather preparedness and applicability to nuclear plants

○ Gas-electric coordination since Winter Storm Uri

Q&A 15 mins.

NRC 20 mins.

Andrea Kock, Deputy Office Director for Engineering, NRR

○ Overview of Power Reactor Activities

Current Fleet of Operating Reactors

• Decommissioning

• Power Uprates

○ Advanced and New Reactors Update

Jason Paige, Chief, Long-Term Operations and Modernization Branch, Division of Engineering and External Hazards, NRR

○ Grid Reliability Updates

○ Update on the Implementation of the Executive Order on Coordinating National Resilience to Electromagnetic Pulses

○ Update on Interagency Agreements

John Wise, Senior Technical Advisor for License Renewal Aging Management, Division of New and Renewed Licenses, NRR

○ Update on Subsequent License Renewal

Peyton Doub, Acting Chief, Environmental Project Management Branch, Division of Rulemaking, Environmental, and Financial Support, NMSS

○ The NRC's Permitting Process for the National Environmental Policy Act and Related Laws, Regulations, and Processes

Q&A 15 mins.

12:00 p.m. Cyber Security Updates

FERC 10 mins.

Barry Kuehnle, Energy Infrastructure and Cyber Security Advisor, Division of Cyber Security, OER

○ Cybersecurity updates

○ Critical Infrastructure Protection (CIP) Audits Lesson Learned Report

NRC 10 mins.

Brian Yip, Chief, Cyber Security Branch Division of Physical and Cyber Security Policy, NSIR

○ Update on cybersecurity program guidance and research activities

○ Research activities related to emerging cyber issues

○ Trends observed in cybersecurity inspection and oversight

Q&A 15 mins.

[FR Doc. 2024-00772 Filed 1-16-24; 8:45 am]

BILLING CODE 6717-01-P